DEPARTMENT OF LABOR

Employment and Training Administration

Job Corps: Final Finding of No Significant Impact (FONSI) for the New Job Corps Center Located at 9 Vandever Avenue, Wilmington, DE

AGENCY: Employment and Training Administration, Department of Labor.

ACTION: Final finding of No Significant Impact (FONSI) for the new Job Corps Center to be located at 9 Vandever Avenue, Wilmington, Delaware.

SUMMARY: Pursuant to the Council on Environmental Quality Regulations (40 CFR part 1500-08) implementing procedural provisions of the National Environmental Policy Act (NEPA), the Department of Labor, Employment and Training Administration, Office of Job Corps gives final notice of the proposed construction of a new Job Corps Center at 9 Vandever Avenue, Wilmington, Delaware, and that this construction will not have a significant adverse impact on the environment. In accordance with 29 CFR 11.11(d) and 40 CFR 1501.4(e)(2), a preliminary FONSI for the new Job Corps Center was published in the November 19, 1999 Federal Register (64 FR 63340-63342). No comments were received regarding the preliminary FONSI. ETA has reviewed the conclusion of the environmental assessment (EA), and agrees with the finding of no significant impact. This notice serves as the Final Finding of No Significant Impact for the new Job Corps Center at 9 Vandever Avenue, Wilmington, Delaware. The preliminary FONSI and the EA are adopted in final with no change

EFFECTIVE DATE: April 6, 2000.

FOR FURTHER INFORMATION CONTACT: Michael O'Malley, Employment and Training Administration, Department of Labor, 200 Constitution Avenue, NW, Room N-4659, Washington, DC, 20210, (202) 219-5468 ext 115 (this is not a toll-free number).

Dated at Washington, DC, this 29th day of March, 2000.
Richard C. Trigg,
National Director of Job Corps.

[FR Doc. 00-8441 Filed 4-5-00; 8:45 am]

BILLING CODE 4510-30-P